ENVIRONMENTAL PROTECTION AGENCY

[FRL-6533-6]

Environmental Laboratory Advisory Board; Meeting Dates and Agenda

AGENCY: Environmental Protection Agency (EPA).

ACTION: Notice of meeting.

SUMMARY: Pursuant to the Federal Advisory Committee Act, Public Law 92-463, as amended (5 U.S.C., App 2) notification is hereby given of an open meeting of the Environmental Laboratory Advisory Board (ELAB).

DATES: The meeting will be held on February 15, 2000, from 1:30 p.m. to 4:00 p.m. (EST).

ADDRESSES: While the meeting will be conducted by teleconference, the public is invited to participate by joining David Friedman in EPA Conference Room 2 on the fourth floor of the Ronald Reagan Building, 1300 Pennsylvania Avenue, NW.

SUPPLEMENTARY INFORMATION: Among the items the Board will discuss are updates from its subcommittees, laboratory performance testing, shipment of environmental samples, and any public comments that the Board has received since their December 1999 meeting.

The meeting is open to the public and time will be allotted for public comment. Written comments are encouraged and should be directed to David Friedman; USEPA; 1200 Pennsylvania Avenue, NW (8101R); Washington, DC 20460.

FOR FURTHER INFORMATION CONTACT: David Friedman; Designated Federal Officer; USEPA; 1300 Pennsylvania Avenue, NW; Washington, DC 20460. If questions arise, please contact Mr. Friedman by phone at (202) 564-6662, by facsimile at (202) 565-2432 or by email at friedman.david@epa.gov.

Dated: January 21, 2000.
Henry L. Longest II,
Deputy Assistant Administrator for Management, Office of Research and Development.

[FR Doc. 00-2478 Filed 2-3-00; 8:45 am]

BILLING CODE 6560-50-P